DEPARTMENT OF HOUSING AND URBAN DEVELOPMENT

[Docket No. FR-7039-N-07]

60-Day Notice of Proposed Information Maintenance Wage Rate Recommendation, OMB Control No. 2501-0011

AGENCY: Office of Davis-Bacon and Labor Standards, FPM, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 23, 2021.

ADDRESSES: Interested persons are invited to submit comments regarding this proposal. Comments should refer to the proposal by name and/or OMB Control Number and should be sent to: Patricia Wright, Program Analyst, Office of Field Policy and Management, U.S. Department of Housing and Urban Development, 451 7th Street SW, Washington, DC 20410, Room 7108 or email at patricia.wright@hud.gov.

FOR FURTHER INFORMATION CONTACT: Anna Guido, Reports Management Officer, QDAM, Department of Housing and Urban Development, 451 7th Street SW, Washington, DC 20410; email Anna Guido at Anna.P.Guido@hud.gov or telephone 202-402-5535. Persons with hearing or speech impairments may access this number through TTY by calling the toll-free Federal Relay Service at (800) 877-8339. This is not a toll-free number. Copies of available documents submitted to OMB may be obtained from Anna Guido.

SUPPLEMENTARY INFORMATION: This notice informs the public that HUD is seeking approval from OMB for the information collection described in Section A.

A. Overview of Information Collection

Title of Information Collection: Maintenance Wage Rate Recommendation.

OMB Approval Number: 2501-0011.

Type of Request: Revision of a currently approved collection.

Form Number: HUD-4750, HUD-4751, HUD-4752.

Description of the need for the information and proposed use: This is a revision of a currently approved collection. Agencies administering low income and affordable housing programs subject to maintenance prevailing wage rates use HUD Form 4750 to recommend maintenance wage rates to HUD and use HUD Forms 4751 and 4752 to collect data from local entities that employ personnel performing the same duties as the agency's maintenance staff. HUD uses the data collected from HUD Forms 4750, 4751, and 4752 to determine or adopt prevailing wage rates for maintenance laborers and mechanics employed in the operation of low income and affordable housing projects subject to Federal prevailing wage rates.

HUD and local agencies that administer HUD-assisted projects will no longer be required to use the HUD Form 4230A for additional classification requests. Instead, HUD and local agencies will utilize the form SF-1444 and submit employer additional classification and wage rate requests to DOL when DOL approval is required. The information collection of the SF-1444 is contained in the OMB Control No. 9000-0066.

Information collection | Number of respondents | Frequency of response | Responses per annum | Burden hours per response | Annual burden hours | Hourly cost per response | Total cost
HUD—4750 Maintenance Wage Recommendation | 1,381.00 | 1.00 | 1,381.00 | 2.00 | 2,762.00 | $42.01 | $116,031.62
HUD—4751 Maintenance Wage Rate Survey | 1,133.00 | 1.00 | 1,133.00 | 2.00 | 2,266.00 | 42.01 | 95,194.66
HUD—4752 Maintenance Wage Rate Survey—Summary Sheet | 1,133.00 | 1.00 | 1,133.00 | 4.00 | 4,53200 | 42.01 | 190,389.32
Total | 3,647.00 |  | 3,647.00 | 8.00 | 9,560.00 | 42.01 | 401,615.60

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35

Krista Mills,
Director, Office of Field Policy and Management.

[FR Doc. 2021-20791 Filed 9-23-21; 8:45 am]

BILLING CODE 4210-67-P